DEPARTMENT OF HEALTH AND HUMAN SERVICES

Centers for Disease Control and Prevention

Disease, Disability, and Injury Prevention and Control Special Emphasis Panel (SEP)—RFA-CE19-005, Research Grants for Preventing Violence and Violence Related Injury; Amended Notice of Meeting

Notice is hereby given of a change in the meeting of the Disease, Disability, and Injury Prevention and Control Special Emphasis Panel (SEP)—RFA-CE19-005, Research Grants for Preventing Violence and Violence Related Injury; May 14-15, 2019, 8:30 a.m.-5:30 p.m., EDT.

Atlanta Marriott Buckhead and Conference Center, 3405 Lenox Road NE, Atlanta, GA 30326 which was published in the Federal Register on Thursday, February 21, 2019, Volume 84, Number 35, page 5445.

The meeting is being amended to change the date to July 16-17, 2019, 8:30 a.m.-5:30 p.m., EDT and to change the location to the Georgian Terrace, 659 Peachtree Street NE, Atlanta, GA 30308. The meeting is closed to the public.

FOR FURTHER INFORMATION CONTACT: Mikel L. Walters, M.A., Ph.D., Scientific Review Official, NCIPC, CDC, 4770 Buford Highway NE, Mailstop F-63, Atlanta, Georgia 30341, (404) 639-0913; mwalters@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-10164 Filed 5-15-19; 8:45 am]

BILLING CODE 4163-18-P